DEPARTMENT OF THE TREASURY

Submission for OMB Review; Comment Request

March 3, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 10, 2006 to be assured of consideration.

Alcohol And Tobacco Tax And Trade Bureau (TTB)

OMB Number: 1513-XXXX.

Type of Review: New.

Title: Formula and Process for Domestic and Imported Alcohol Beverages.

Form: TTB form F 5100.51.

Description: This report is used to monitor the production of malt beverages, wine, and distilled spirits products. It ensures that these products are correctly produced and classified according to federal regulations.

Respondents: Business or other for-profit.

Estimated Total Burden Hours: 8,000 hours.

Clearance Officer: Frank Foote, (202) 927-9347, Alcohol and Tobacco Tax and Trade Bureau, Room 200 East, 1310 G. Street, NW., Washington, DC 20005.

OMB Reviewer: Alexander T. Hunt, (202) 395-7316, Office of Management and Budget, Room 10235, New Executive Office Building, Washington, DC 20503.

Michael A. Robinson,
Treasury PRA Clearance Officer.

[FR Doc. E6-3333 Filed 3-8-06; 8:45 am]

BILLING CODE 4810-31-P